Title 3—

The President

Executive Order 13428 of April 2, 2007

Renaming a National Forest in the Commonwealth of Puerto Rico

By the authority vested in me as President by the Constitution and the laws of the United States of America, including section 1 of the Act of June 4, 1897 (16 U.S.C. 473) and section 1 of the Act of July 1, 1902 (48 U.S.C. 746), and to rename the Caribbean National Forest in the Commonwealth of Puerto Rico, it is hereby ordered as follows:

Section 1. The Caribbean National Forest in the Commonwealth of Puerto Rico is hereby renamed the “El Yunque National Forest.”

Sec. 2. Previous references to the Caribbean National Forest in Executive Order 7059-A of June 4, 1935, and Executive Order 10992 of February 9, 1962, shall, for all purposes hereafter, be deemed references to the “El Yunque National Forest.”

Sec. 3. This order shall be implemented in accordance with applicable law and subject to the availability of appropriations.

Sec. 4. This order is not intended to, and does not, create any right or benefit, substantive or procedural, enforceable at law or in equity by any party against the United States, agencies, entities, officers, employees, or agents thereof, or any other person.

THE WHITE HOUSE,

April 2, 2007.

[FR Doc. 07-1704

Filed 4-3-07; 8:50 am]

Billing code 3195-01-P